SECURITIES AND EXCHANGE COMMISSION

[Release No. 34-45134; File No. SR-NASD-2001-34]

Self-Regulatory Organizations: Order Approving Proposed Rule Change by the National Association of Securities Dealers, Inc. Relating to Amendments to the Restated Certificate of Incorporation of The Nasdaq Stock Market, Inc.

December 5, 2001.

Correction

In notice document 01-30650 beginning on page 64327 in the issue of Wednesday, December 12, 2001, make the following correction:

On page 64327, in the first column, the Release No. should be as set forth above.

[FR Doc. C1-30650 Filed 12-18-01; 8:45 am]

BILLING CODE 1505-01-D